DEPARTMENT OF AGRICULTURE

National Agricultural Statistics Service

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical or other technological collection techniques or other forms of information technology.

Comments regarding this information collection received by August 8, 2016 will be considered. Written comments should be addressed to: Desk Officer for Agriculture, Office of Information and Regulatory Affairs, Office of Management and Budget (OMB), New Executive Office Building, 725 17th Street NW., Washington, DC, 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: 2017 Census of Agriculture.

OMB Control Number: 0535-0226.

Summary of Collection: The National Agricultural Statistics Service (NASS) is responsible for conducting the Census of Agriculture under the authority of the Census of Agriculture Act of 1997, Public Law 105-113. The census of agriculture is required by law every five years and is the primary source of statistics concerning the nation's agricultural industry. It provides the only basis of consistent, comparable data throughout the more than 3,000 counties in the 50 States and Puerto Rico. For the outlying areas of American Samoa, Commonwealth of the Northern Mariana Islands, Guam and U.S. Virgin Islands, it is the only source of consistent, comparable agricultural data.

Need and Use of the Information: The data collection for the censuses of agriculture for the 50 states and Puerto Rico will be conducted primarily by mail-out/mail-back procedures (US Postal Service), internet, and with phone and field enumeration for targeted non-respondents. Data collection for Guam, the U.S. Virgin Islands, Commonwealth of the Northern Mariana Islands and American Samoa will be conducted using direct enumeration methods only. The census provides data on the number and types of farms, land use, crop area and selected production, livestock inventory and sales, production contracts, production expenses, farm-related income, and other demographic characteristics. This information will serve as the basis for many agriculturally-based decisions. Census information is used by the Administration, Congress, and the Federal Agencies to formulate and evaluate national agricultural programs and policy. The Department of Agriculture and the Bureau of Economic Analysis use Census data to compile farm sector economic indicators. State and local governments use Census data in the development of local agricultural programs.

Description of Respondents: Farms; Individuals or households.

Number of Respondents: 4,438,800.

Frequency of Responses: Reporting: Other (Every 5 years).

Total Burden Hours: 2,763,085.

Ruth Brown,
Departmental Information Collection Clearance Officer.

[FR Doc. 2016-16179 Filed 7-7-16; 8:45 am]

BILLING CODE 3410-20-P